DEPARTMENT OF TRANSPORTATION

Federal Aviation Administration

14 CFR Part 71

[Docket No. FAA-2011-0252; Airspace Docket No. 11-ANM-5]

Modification of Class E Airspace; Newcastle, WY

AGENCY: Federal Aviation Administration (FAA), DOT.

ACTION: Final rule.

SUMMARY: This action amends Class E airspace at Newcastle, WY, to accommodate aircraft using the Area Navigation (RNAV) Global Positioning System (GPS) standard instrument approach procedures at Mondell Field Airport. This improves the safety and management of Instrument Flight Rules (IFR) operations at the airport. The airport name also is being changed to Mondell Field Airport.

DATES: Effective date, 0901 UTC, August 25, 2011. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue, SW., Renton, WA 98057; telephone (425) 203-4537.

SUPPLEMENTARY INFORMATION:

History

On April 12, 2011, the FAA published in the Federal Register a notice of proposed rulemaking to amend controlled airspace at Newcastle, WY (76 FR 20281). Interested parties were invited to participate in this rulemaking effort by submitting written comments on the proposal to the FAA. No comments were received.

Class E airspace designations are published in paragraph 6005 of FAA Order 7400.9U dated August 18, 2010, and effective September 15, 2010, which is incorporated by reference in 14 CFR 71.1. The Class E airspace designations listed in this document will be published subsequently in that Order.

The Rule

This action amends Title 14 Code of Federal Regulations (14 CFR) Part 71 by amending Class E airspace extending upward from 700 feet above the surface, at Mondell Field Airport, to accommodate IFR aircraft using the RNAV (GPS) standard instrument approach procedures at the airport. This action is necessary for the safety and management of IFR operations. The airport name is being changed from Mondell Field, to Mondell Field Airport, Newcastle, WY. With the exception of minor corrections made to the regulatory text at the request of the FAA's Aeronautical Products Office, this rule is the same as that proposed in the NPRM.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes additional controlled airspace at Mondell Field Airport, Newcastle, WY.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9U, Airspace Designations and Reporting Points, dated August 18, 2010, and effective September 15, 2010 is amended as follows:

Paragraph 6005 Class E airspace areas extending upward from 700 feet or more above the surface of the earth.

* * * * *

ANM WY E5 Newcastle, WY [Modified]

Mondell Field Airport, WY

(Lat. 43°53′08″ N., long. 104°19′05″ W.)

Ellsworth AFB, SD

(Lat. 44°08′42″ N., long. 103°06′13″ W.)

That airspace extending upward from 700 feet above the surface within 4 miles northeast and 8.3 miles southwest of the Mondell Field Airport 154° and 334° bearings extending from 5.3 miles northwest to 16.1 miles southeast of the airport; that airspace extending upward from 1,200 feet above the surface bounded on the north by the north edge of V-86, on the east by a 45.6-mile radius of Ellsworth AFB, on the south by the south edge of V-26, on the west by a line 4.3 miles west of and parallel to the Mondell Field Airport 360° bearing and 180° bearing; that airspace extending upward from 7,000 feet MSL bounded on the north by the north edge of V-26, on the east by a 45.6-mile radius of Ellsworth AFB, on the south by the south edge of V-26, on the west by a line 4.3 miles west of and parallel to the Mondell Field Airport 360° bearing and 180° bearing.

Issued in Seattle, Washington on June 13, 2011.
John Warner,
Manager, Operations Support Group, Western Service Center.

[FR Doc. 2011-15375 Filed 6-21-11; 8:45 am]

BILLING CODE 4910-13-P